DEPARTMENT OF HOMELAND SECURITY

U.S. Citizenship and Immigration Services

[OMB Control No. 1615-0092]

Agency Information Collection Activities: E-Verify Program

ACTION: 60-Day Notice: Correction.

SUMMARY: In accordance with the Paperwork Reduction Act of 1995 (PRA), on July 13, 2011, USCIS published a 60-day notice, “Memorandum of Understanding to Participate in the Basic Pilot Employment Eligibility Program; Verify Employment Eligibility Status” in the Federal Register at 76 FR 41279. USCIS is correcting two errors in this notice. First, the title incorrectly read “Memorandum of Understanding to Participate in the Basic Pilot Employment Eligibility Program; Verify Employment Eligibility Status”. Instead it should read “E-Verify Program.” Second, comments are not requested on the E-Verify Memorandum of Understanding as previously published. Instead, comments are requested on the burden for enrolling in E-Verify (and modifying an ID/IQ contract if applicable), inputting information directly from Form I-9, Employment Eligibility Verification into the E-Verify web interface, and performing initial and secondary queries (for example: referring and resolving tentative nonconfirmations.).

Written comments and/or suggestions regarding the item(s) contained in this notice, especially regarding the estimated public burden and associated response time, should be directed to the Department of Homeland Security (DHS), USCIS, Chief, Regulatory Products Division, Office of the Executive Secretariat, 20 Massachusetts Avenue, NW., Washington, DC 20529-2020. Comments may also be submitted to DHS via facsimile to 202-272-0997 or via e-mail at USCISFRComment@dhs.gov. When submitting comments by e-mail please make sure to add OMB Control Number 1615-0092 in the subject box.

The public comment period is unchanged and ends September 12, 2011, as cited in the previously published 60-day notice at 76 FR 41279 on July 13, 2011.

Note: The address listed in this notice should be used only to submit comments concerning this information collection. Please do not submit requests for individual case status inquiries to this address. If you are seeking information about the status of your individual case, please check “My Case Status” online at https://egov.uscis.gov/cris/Dashboard.do, or call the USCIS National Customer Service Center at 1-800-375-5283 (TTY 1-800-767-1833).

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

1. Type of Information Collection: Revision of a currently approved information collection.

2. Title of the Form/Collection: E-Verify Program.

3. Agency form number, if any, and the applicable component of the Department of Homeland Security sponsoring the collection: No Agency Form Number; File OMB-18. U.S. Citizenship and Immigration Services.

4. Affected public who will be asked or required to respond, as well as a brief abstract: Primary: Business or other for profit. E-Verify allows employers to electronically verify the employment eligibility status of newly hired employees.

5. An estimate of the total number of respondents and the amount of time estimated for an average respondent to respond: 125,015 completing the E-Verify web interface at 17 responses at .86 hours (52 minutes) per response; 521,134 employers registering to participate in the program at 2.26 hours (2 hours and 15 minutes) per response; 3,333 requiring ID/IQ modification at 2 hours per response; 4,094,955 initial queries at .12 hours (7 minutes) per response; 195,329 secondary queries at 1.94 hours (1 hour 56 minutes) per response.

6. An estimate of the total public burden (in hours) associated with the collection: 3,882,482 annual burden hours.

If you need a copy of the supporting statement, please visit the Web site at: http://www.regulations.gov/.

We may also be contacted at: USCIS, Regulatory Products Division, Office of the Executive Secretariat, 20 Massachusetts Avenue, NW., Washington, DC 20529-2020, Telephone number 202-272-8377.

Dated: July 27, 2011.
Sunday Aigbe,
Chief, Regulatory Products Division, Office of the Executive Secretariat, U.S. Citizenship and Immigration Services, Department of Homeland Security.

[FR Doc. 2011-19423 Filed 7-29-11; 8:45 am]

BILLING CODE 9111-97-P